DEPARTMENT OF LABOR

Employment and Training Administration

[TA-W-53,672]

Learjet, Inc., A Division of Bombardier, Inc., Wichita, KS; Notice of Termination of Investigation

Pursuant to section 221 of the Trade Act of 1974, as amended, an investigation was initiated on December 1, 2003 in response to a petition filed by an official of the International Association of Machinists and Aerospace Workers, Lodge No. 70, on behalf of workers at Learjet, Inc., a division of Bombardier, Inc., Wichita, KS.

The petitioner has requested that the petition be withdrawn. Consequently, the investigation has been terminated.

Signed at Washington, DC this 10th day of December, 2003.
Linda G. Poole,
Certifying Officer, Division of Trade Adjustment Assistance.

[FR Doc. 03-31465 Filed 12-19-03; 8:45 am]

BILLING CODE 4510-30-P